DEPARTMENT OF HEALTH & HUMAN SERVICES

Health Resources and Services Administration

Bright Futures Pediatric Implementation Cooperative Agreement

AGENCY: Health Resources and Services Administration (HRSA), Department of Health and Human Services (HHS).

ACTION: Notice of Single-Case Deviation from Competition Requirement for Program Expansion for the Bright Futures Pediatric Implementation Cooperative Agreement at the American Academy of Pediatrics, Grant Number U04MC07853.

SUMMARY: HRSA announces its intent to award a program expansion supplement in the amount of $75,000 for the Bright Futures Pediatric Implementation (BFPI) cooperative agreement. The purpose of the BFPI cooperative agreement, as stated in the funding opportunity announcement, is to improve the quality of health promotion and preventive services for all infants, children, adolescents, and their families, including children with special health care needs, through the effective national implementation of Bright Futures Guidelines for Health Supervision of Infants, Children and Adolescents, Third Edition (Bright Futures). The purpose of this notice is to award supplemental funds to collect baseline information to measure the improvement of coordination activities between home visiting and primary care providers by the American Academy of Pediatrics, the cooperative agreement awardee who serves as the BFPI, during the budget period of February 1, 2015, to January 31, 2016. The BFPI is authorized by the Social Security Act, Title V, Sections 501(a)(2) (42 U.S.C. 701(a)(2)), as amended.

The BFPI is a national resource to promote integration of the Bright Futures through strengthening, aligning, and fostering partnerships among families, health professionals, public health, and the broader community to promote children's health.

SUPPLEMENTARY INFORMATION: Intended Recipient of the Award: The American Academy of Pediatrics.

Amount of the Non-Competitive Award: $75,000.

CFDA Number: 93.110.

Current Project Period: 02/01/2007-01/31/2017.

Period of Supplemental Funding: 2/1/2015-1/31/2016.

Authority: Social Security Act, Title V, Sections 501(a)(2) (42 U.S.C. 701(a)(2)), as amended.

Justification: The HHS Strategic Plan for fiscal years (FYS) 2014 to 2018 includes the goal of strengthening health care by emphasizing primary and preventive care, linked with community prevention services. Such integration between primary health care services and public health efforts can promote efficiency, positively affect individual well-being, and improve population health. In alignment with this HHS goal, a goal of the BFPI cooperative agreement is to foster partnerships between families, health professionals, public health and the broader community to promote children's health through the effective national implementation of Bright Futures.

Home visiting within a strong early childhood system is a Bright Futures-recommended public health effort that could benefit from improved coordination with primary health care services. Studies have shown that improving coordination between primary health care services and home visitors could yield improved adherence to preventative health services for at risk families, improved compliance and fidelity to evidence-based home visiting models, and stronger family engagement in community support services. For BFPI to improve integration between home visiting and primary care providers, it must first understand the current state of these partnerships.

The AAP collects data from pediatricians, the primary care medical providers most likely to encounter families with young children. AAP's Periodic Survey of Fellows is an established mechanism for surveying practice delivery among AAP's more than 60,000 pediatrician members, with response rates ranging from 50 to 55 percent, higher than many other national surveys of physicians. AAP conducts the survey every 2 years. The proposed program expansion supplement would fund AAP to collect additional complementary data from pediatricians and provide such data to MCHB.

The supplemental funds for survey questions would build on AAP's survey infrastructure to help MCHB understand the system, organization, and individual-level determinants and challenges that influence coordination between home visitors and pediatricians. AAP would add questions focusing on coordination between home visitors and pediatricians to the Fall 2015 Periodic Survey of Fellows that would be sent to a national random sample of approximately 1,600 non-retired United States members of the AAP. The survey would include specific questions about pediatricians' use of, and communication with, home visitors and perception of the role of the home visitor and the pediatrician in addressing several preventive care topics as part of routine well-child care and home visits. These topics include injury prevention, infant feeding practices, early reading/literacy development, developmental screening, immunization information, smoking cessation, oral health, as well as parental depression, domestic violence and substance use counseling. Pediatricians would be asked about the frequency with which they inquire about, use formal screening instruments, treat/manage, and refer patients for various problems/conditions. These various problems/conditions may include maternal depression, parental alcohol/drug use, divorce, illiteracy, domestic violence exposure, physical or sexual abuse, neglectful parenting, and food and housing insecurity. Findings from the AAP national survey of pediatricians, in conjunction with findings from other data sources and ongoing surveys of home visitors, would inform MCHB's understanding of what is needed to best strengthen the home visitors' and pediatricians' collaborations for at-risk families to support healthy development and to address the toxic stress and social determinants that drive health and developmental disparities for young children.

FOR FURTHER INFORMATION CONTACT: Lynn Van Pelt, DMD, Division of Child, Adolescent, and Family Health, Maternal and Child Health Bureau, Health Resources and Services Administration, 5600 Fishers Lane, Room 18W13B, Rockville, Maryland 20857; lvanpelt@hrsa.gov.

Grantee/organization name | Grant number | State | FY 2015 authorized funding level | FY 2015 estimated supplemental funding
The American Academy of Pediatrics | U04MC07853 | IL | $1,176,800 | $75,000

Dated: September 21, 2015.
James Macrae,
Acting Administrator.

[FR Doc. 2015-24395 Filed 9-24-15; 8:45 am]

BILLING CODE 4165-15-P